DEPARTMENT OF LABOR

Employment and Training Administration

[NAFTA-4323 and TA-W-38,397]

Owens-Brockway, Glass Containers, Brockway, PA; Notice of Revised Determination on Reconsideration

By letter of April 5, 2001, the Glass, Molders, Pottery, Plastics & Allied Workers International Union requested administrative reconsideration of the Department's denial of North American Free Trade Agreement-Transitional Adjustment Assistance (NAFTA-TAA) and Trade Adjustment Assistance (TAA), applicable to workers of Owens-Brockway, Glass Containers, Brockway, Pennsylvania. The notices were published in the Federal Register on April 5, 2001, NAFTA-4323 (66 FR 18118), and TA-W-38,397 (66 FR 18117).

The workers were primarily engaged in the production of glass bottles.

The workers were denied NAFTA-TAA on the basis that there was no shift in production to Mexico or Canada, nor were there company or customer imports of glass bottles from Mexico or Canada. The workers were denied TAA because the “contributed importantly” test of the Group Eligibility Requirements of the Trade Act was not met.

The union request for reconsideration indicated that the subject plant imported glass bottles from South America. Upon further examination of available glass bottle import statistics, it is now apparent that aggregate U.S. imports of glass bottles increased significantly from Canada and Mexico during the relevant period. The review further depicts a meaningful increase in aggregate U.S. imports of glass bottles during the relevant period.

Conclusion

After careful consideration of the new facts obtained on reconsideration, it is concluded that the workers of Owens-Brockway, Glass Containers, Brockway, Pennsylvania, were adversely affected by increased imports (including those from Canada and Mexico) of articles like or directly competitive with glass bottles produced at the subject firm.

All workers of Owens-Brockway, Glass Containers, Brockway, Pennsylvania, who became totally or partially separated from employment on or after November 14, 1999, through two years from the date of certification, are eligible to apply for NAFTA-TAA under Section 250 of the trade Act of 1974; and

All workers of Owens-Brockway, Glass Containers, Brockway, Pennsylvania, who became totally or partially separated from employment on or after November 14, 1999, through two years from the date of certification, are eligible to apply for adjustment assistance under section 223 of the Trade Act of 1974.

Signed at Washington, DC, this 18th day of September 2001.
Edward A. Tomchick,
Director, Division of Trade Adjustment Assistance.

[FR Doc. 01-24817 Filed 10-3-01; 8:45 am]

BILLING CODE 4510-30-M